DEPARTMENT OF JUSTICE

Notice of Lodging of a Consent Decree Modification Pursuant to The Clean Water Act

Notice is hereby given that a proposed modification to a Consent Decree entered in United States of America and the Commonwealth of Kentucky v. Winchester Municipal Utilities and City of Winchester, Civ. No. 06-102-KSF, was lodged on January 19, 2011, with the United States District Court for the Eastern District of Kentucky, Central Division.

The Consent Decree was entered by the Court on April 11, 2007, and resolves claims under Sections 301 and 402 of the Clean Water Act, 33 U.S.C. 1251, et seq., against the City of Winchester (“City”) and Winchester Municipal Utilities (“WMU”), through the performance of injunctive measures, the payment of a civil penalty, and the performance of a Supplemental Environmental Project (“SEP”). The United States and the Commonwealth of Kentucky alleged that the City and WMU are liable as persons who discharged a pollutant from a point source to navigable waters of the United States without a permit.

The proposed modification to the Consent Decree would replace the existing obligation to perform a SEP, with an obligation to perform a different SEP. The Decree currently requires the City and WMU to perform a SEP valued at $230,000, which is designed to abate stormwater runoff pollution to an impaired waterway. After spending $27,000 on testing, the City and WMU have determined that the SEP will not achieve the environmental benefits they originally anticipated. The City and WMU considered another stream restoration project as an alternate, but easements could not be obtained and further consideration of that project was abandoned.

The proposed modification to the Consent Decree would obligate the City and WMU to prepare a watershed management plan for the Lower Howards Creek Watershed (“LHCW”) instead of the original SEP. The LHCW is the locus of many of the City and WMU's most significant SSOs, and some of the injunctive relief in the Consent Decree is aimed at eliminating SSOs and improving water quality in the LHCW. The plan would outline specific areas of concern and identify potential projects for the LHCW. The City and WMU would make the plan available to the public, and work with public officials, environmental and conservation groups, and citizens who are interested in improving water quality in the LHCW. The City and WMU would be required to spend $203,000 on the watershed management plan, and they would receive a credit for the $27,000 they've already spent on the testing phase of the original SEP.

The Department of Justice will receive for a period of thirty (30) days from the date of this publication comments relating to the proposed modification to the Consent Decree. Comments should be addressed to the Assistant Attorney General, Environment and Natural Resources Division, and either e-mailed to pubcomment-ees.enrd@usdoj.gov or mailed to P.O. Box 7611, U.S. Department of Justice, Washington, DC 20044-7611, and should refer to United States v. Winchester Municipal Utilities, DJ No. 90-5-1-1-08806.

The proposed Consent Decree modification may be examined at the office of the United States Attorney for the Eastern District of Kentucky, 110 West Vine Street, Suite 400, Lexington KY 40507-1671, and at the Region 4 Office of the Environmental Protection Agency, Atlanta Federal Center, 61 Forsyth Street, SW., Atlanta GA 30303. During the public comment period, the decree may also be examined on the following Department of Justice Web site, http://www.usdoj.gov/enrd/Consent_Decrees.html. A copy of the Consent Decree modification may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $2.50 (25 cents per page reproduction cost) payable to the U.S. Treasury. The check should refer to United States v. Winchester Municipal Utilities, DJ No. 90-5-1-1-08806.

Maureen Katz,
Assistant Chief, Environmental Enforcement Section, Environment and Natural Resources Division.

[FR Doc. 2011-1570 Filed 1-25-11; 8:45 am]

BILLING CODE 4410-15-P